ENVIRONMENTAL PROTECTION AGENCY

[EPA-R10-OAR-2019-0702; FRL-10004-50-Region 10]

Completeness Determination; AK: Fairbanks North Star Borough 2006 24-Hour Fine Particulate Matter Serious Attainment Plan

AGENCY: Environmental Protection Agency (EPA).

ACTION: Notice.

SUMMARY: This notice announces that the Environmental Protection Agency (EPA) has made a determination that the State of Alaska has made a complete Serious Area State Implementation Plan (SIP) submission for the Fairbanks North Star Borough 2006 24-hour fine particulate matter nonattainment area.

ADDRESSES: The EPA has established a docket for this notice under Docket ID No. EPA-R10-OAR-2019-0702. All documents in the docket are listed and publicly available at https://www.regulations.gov. Although listed in the index, some information is not publicly available, i.e., Confidential Business Information or other information whose disclosure is restricted by statute. Certain other material, such as copyrighted material, is not placed on the internet and will be publicly available only in hard copy form. Publicly available docket materials are available electronically at https://www.regulations.gov.

FOR FURTHER INFORMATION CONTACT: Matthew Jentgen at (206) 553-0340, or jentgen.matthew@epa.gov.

SUPPLEMENTARY INFORMATION: On December 13, 2019, EPA received the State of Alaska State Implementation Plan to meet the serious area nonattainment plan requirements for purposes of the 2006 24-hour PM2.5 NAAQS in the Fairbanks North Star Borough nonattainment area (“Fairbanks Serious Area Plan”). The EPA has determined that the submittal of the Fairbanks Serious Area Plan is administratively and technically complete. The EPA made this finding in accordance with section 110(k)(1)(B) and part D of Title I of the Clean Air Act (CAA). The Fairbanks Serious Area Plan submission and a detailed account of Alaska's SIP submission compared to the completeness criteria in 40 CFR part 51, appendix V, is included in the docket.

A completeness determination indicates that the SIP submission meets the minimum criteria that a plan must satisfy for the EPA to review the submittal to determine whether the SIP submission meets the applicable substantive requirements of the CAA and implementing regulations for the type of SIP submission at issue. A completeness determination does not constitute a finding on the merits of the SIP submission or whether it meets the relevant criteria for SIP approval. Consequently, this completeness determination does not constitute final agency action and is not reviewable pursuant to Section 307 of the CAA, 42 U.S.C. 7607, nor section 702 of the Administrative Procedure Act, 5 U.S.C. 702. The EPA's subsequent rulemaking action or actions on this complete SIP submission will be final agency action, capable of judicial review at the appropriate time.

Authority: 42 U.S.C. 7401 et seq.

Dated: January 9, 2020.
Krishna Viswanathan,
Acting Director, Air and Radiation Division, Region 10.

[FR Doc. 2020-00982 Filed 2-10-20; 8:45 am]

BILLING CODE 6560-50-P